DEPARTMENT OF DEFENSE

Department of the Army, Corps of Engineers

Intent To Prepare an Integrated Feasibility/Environmental Impact Statement for the Proposed Rota Harbor Modifications Project, Island of Rota, Commonwealth of the Northern Mariana Islands

AGENCY: Department of the Army, U.S. Army Corps of Engineers (USACE), DoD.

ACTION: Notice of intent.

SUMMARY: Pursuant to the section 102(2) (C) of National Environmental Policy Act (NEPA) of 1969; the U.S. Army Corps of Engineers and the Commonwealth of the Northern Mariana Islands (CMNI), Municipality of Rota (Municipality)/Commonwealth Ports Authority (CPA) gives notice that an Integrated Feasibility/Environmental Impact Statement (F/EIS) report is being prepared for the Proposed Rota Harbor Modifications Project, Island of Rota, CNMI. This project is authorized under section 209 of the Rivers and Harbors Act of 1962 (Pub. L. 87-874) and will consider the implementation of navigation improvements at Rota Harbor.

DATES: In order to be considered in the Draft F/EIS, comments and suggestions should be received within 30 days after the last public scoping meeting. Two public scoping meetings will be held in Saipan and Rota in mid/late July 2016. A separate notice will be published for meeting times and places.

ADDRESSES: Mail written comments concerning this notice to: Mr. Milton Yoshimoto, Project Manager, Civil and Public Works Branch, Honolulu District, U.S. Army Corps of Engineers, Bldg. 230, Fort Shafter, Hawaii 96858. Comment letters should include the commenter's physical mailing address and the project title in the subject line.

FOR FURTHER INFORMATION CONTACT: Mr. Milton Yoshimoto, Project Manager, Civil and Public Works Branch, Honolulu District, U.S. Army Corps of Engineers, Bldg. 230, Fort Shafter, Hawaii 96858, (808) 835-4034, E-Mail: milton.t.yoshimoto@usace.army.mil.

SUPPLEMENTARY INFORMATION: In accordance with NEPA, the Corps intends to prepare an F/EIS report. The primary Federal actions under consideration are: (1) Navigation improvement measures that expand the federal turning basin; (2) surge reduction measures by constructing protective structures at both harbors; and (3) expand and deepen the harbor basin and entrance channel to accommodate larger vessels by dredging. The F/EIS reports shall meet the requirements of NEPA, including all applicable federal regulations implementing those statutes.

Evaluation will examine the costs and benefits of this project, as well as the environmental impacts of modifying the maintained dimensions of the existing Federal project within its authorized limits. The purpose of this effort is to conduct a study to assess the technical, environmental, and economic feasibility in the implementation of navigation improvement at Rota Harbor.

Project Site and Background Information: Since its construction in 1985, users of the Rota West Harbor have experienced problems with navigation within the entrance channel and with vessels docked at the piers attributable to adverse wave conditions and the current harbor configuration. As recently as late 2013, there have been periods when the harbor has shut down and cargo flown to the island at a considerable cost to the island residents. The project will evaluate wave action within the harbor and identify modifications to general navigations features to improve operating inefficiency and safe navigation and address the need to expand the harbor basin to accommodate larger vessels.

Proposed Action(s): The study reports will assess the technical, environmental and economic feasibility in the implementation of navigation improvement. These include: (1) Navigation improvement measures that expand the federal turning basin; (2) surge reduction measures by constructing protective structures; and (3) dredging harbor sediments to allow larger vessels access to the harbor.

Issues: Potentially significant issues associated with the project may include: aesthetics/visual impacts, air quality emissions, biological resource impacts, environmental justice, hazards and hazardous materials, hydrology and water quality, noise, traffic and transportation, and cumulative impacts from past, present and reasonably foreseeable future projects.

Scoping Process: The U.S. Army Corps of Engineers is seeking participation and input of all interested federal, state, and local agencies, Native American groups, and other concerned private organizations or individuals on the scope of the F/EIS through this public notice. The purpose of the public scoping meeting is to solicit comments regarding the potential impacts, environmental issues, and alternatives associated with the proposed action to be considered in the study report. The meeting place, date, and time will be advertised in advance in local newspapers, and meeting announcement letters will be sent to interested parties. The draft F/EIS report is expected to be available for public review and comment in the summer of 2017 and a public meeting will be held after its publication.

Dated: July 1, 2016.
Christopher W. Crary,
Lieutenant Colonel, U.S. Army, District Engineer.

[FR Doc. 2016-16189 Filed 7-7-16; 8:45 am]

BILLING CODE 3720-58-P